DEPARTMENT OF DEFENSE

Office of the Secretary

Publication of Housing Price Inflation Adjustment

AGENCY: Office of the Under Secretary of Defense for Personnel and Readiness (USD(P&R)), Department of Defense (DoD).

ACTION: Notice of housing price inflation adjustment.

SUMMARY: The DoD is announcing the 2023 rent threshold under the Servicemembers Civil Relief Act. Applying the inflation adjustment, the maximum monthly rental amount as of January 1, 2023, is $9,106.46.

DATES: This housing price inflation adjustment is effective January 1, 2023.

FOR FURTHER INFORMATION CONTACT: Colonel Patrick Schwomeyer, Office of the Under Secretary of Defense for Personnel and Readiness, (703) 692-8170.

SUPPLEMENTARY INFORMATION: The Servicemembers Civil Relief Act, as codified at 50 U.S.C. app. 3951, prohibits a landlord from evicting a Service member (or the Service member's family) from a residence during a period of military service, except by court order. The law as originally passed by Congress applied to dwellings with monthly rents of $2,400 or less. The law requires the DoD to adjust this amount annually to reflect inflation and to publish the new amount in the Federal Register. Applying the inflation adjustment for the calendar year 2023, the maximum monthly rental amount for 50 U.S.C. app. 3951 (a)(1)(A)(ii) as of January 1, 2023, will be $9,106.46.

Dated: January 26, 2023.
Aaron T. Siegel,
Alternate OSD Federal Register Liaison Officer, Department of Defense.

[FR Doc. 2023-01992 Filed 1-30-23; 8:45 am]

BILLING CODE 5001-06-P